DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Longline Vessel Monitoring System and Pre-Trip Reporting Requirements.

OMB Control Number: 0648-0498.

Form Number(s): NA.

Type of Request: Regular submission (revision and extension of a current information collection).

Number of Respondents: 5.

Average Hours Per Response: Vessel Monitoring System (VMS) installation and certification, 3 hours; annual maintenance, 2 hours; pre-trip notifications, 5 minutes.

Burden Hours: 16.

Needs and Uses: This request is for a revision and extension of a currently approved information collection.

Owners of vessels that fish out of West Coast ports for highly migratory species such as tuna, billfish, and sharks are required to submit information about their intended and actual fishing activities. These submissions would allow the National Marine Fisheries Service (NMFS) and the Pacific Fishery Management Council to monitor the fisheries and determine the effects and effectiveness of the Fishery Management Plan (FMP) for U.S. West Coast Fisheries for Highly Migratory Species (HMS). Pre-trip reporting requirements are essential for effectively and efficiently assigning available observer coverage to selected HMS vessels. Data collected by observers are critical to evaluating if the objectives of the FMP are being achieved and for evaluating the impact of potential changes in management to respond to new information or new problems in the fisheries. Vessel Monitoring System (VMS) units will facilitate enforcement of closures associated with HMS fisheries and provide timely information on associated fleet activities.

Affected Public: Business or other for profit organizations.

Frequency: Daily and annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Dated: March 20, 2014.
Gwellnar Banks,
Management Analyst, Office of the Chief Information Officer.

[FR Doc. 2014-06484 Filed 3-24-14; 8:45 am]

BILLING CODE 3510-JE-P